DEPARTMENT OF COMMERCE

International Trade Administration

[A-570-601]

Tapered Roller Bearings and Parts Thereof, Finished and Unfinished, From the People's Republic of China; Amended Final Results of 1998-1999 Administrative Review and Determination To Revoke Order in Part

AGENCY: Import Administration, International Trade Administration, Department of Commerce.

ACTION: Notice of amended final results of 1998-1999 administrative review and determination to revoke order in part.

SUMMARY: On January 10, 2001, the Department published the final results of the administrative review of the antidumping duty order on tapered roller bearings and parts thereof, finished and unfinished, from the People's Republic of China.¹ On January 12, 2001, certain respondents filed allegations of ministerial errors and on January 18, 2001, the petitioner filed a response to the allegations. Based on our review of the comments received from all parties regarding potential ministerial errors, we have made certain changes to the margin calculation of respondent Wafangdian Bearing Company Ltd. The final weighted-average dumping margin for this company is now zero. We have, moreover, determined to revoke the antidumping duty order with respect to Wafangdian Bearing Company Ltd. We have also corrected a typographical error in the Final Results in which the PRC-wide cash deposit rate was listed as 33.12 percent. The correct PRC-wide cash deposit rate is 33.18 percent.

¹ Tapered Roller Bearings and Parts Thereof, Finished and Unfinished, From the People's Republic of China; Final Results of 1998-1999 Administrative Review, Partial Rescission of Review, and Notice of Intent to Revoke Order in Part, 66 FR 1953 (January 10, 2001) (“Final Results”).

EFFECTIVE DATE: February 26, 2001.

FOR FURTHER INFORMATION CONTACT: Greg Campbell or Jarrod Goldfedder, Group 1, Office I, Antidumping/Countervailing Duty Enforcement, Import Administration, International Trade Administration, U.S. Department of Commerce, 14th Street and Constitution Avenue, NW, Washington, DC 20230; telephone (202) 482-2239 or (202) 482-0189, respectively.

SUPPLEMENTARY INFORMATION:

The Applicable Statute

Unless otherwise indicated, all citations to the Tariff Act of 1930, as amended (the “Act”), are references to the provisions effective January 1, 1995, the effective date of the amendments made to the Act by the Uruguay Round Agreements Act (“URAA”). In addition, unless otherwise indicated, all citations to the Department of Commerce's (“Department”) regulations are to 19 CFR Part 351 (2000).

Background

On January 10, 2001, the Department published the Final Results. The period of review (“POR”) is June 1, 1998, through May 31, 1999.

On January 12, 2001, ministerial error allegations were submitted by respondents Wafangdian Bearing Company Ltd. (“Wafangdian”), Zhejiang Machinery Import & Export Corp., (“ZMC”), and Luoyang Bearing Corp. (Group). Respondents Wanxiang Group Corporation (“Wanxiang”), China National Machinery Import & Export Corporation (“CMC”), Liaoning MEC Group Co. Ltd., Premier Bearing & Equipment Ltd., Tianshui Hailin Import and Export Corporation/Hailin Bearing Factory, and Weihai Machinery Holding (Group) Co., Ltd. submitted a January 17, 2001, letter to the Department expressing their concurrence with the allegations raised in the January 12, 2001 submission of the other respondents. On January 18, 2001, the petitioner submitted its comments on the January 12 ministerial error allegations.

The Department has conducted this administrative review in accordance with section 751 of the Act.

Scope of Review

Merchandise covered by this review includes tapered roller bearings (“TRBs”) and parts thereof, finished and unfinished, from the PRC; flange, take up cartridge, and hanger units incorporating TRBs; and tapered roller housings (except pillow blocks) incorporating TRBs, with or without spindles, whether or not for automotive use. This merchandise is currently classifiable under the Harmonized Tariff Schedule of the United States (“HTSUS”) item numbers 8482.20.00, 8482.91.00.50, 8482.99.30, 8483.20.40, 8483.20.80, 8483.30.80, 8483.90.20, 8483.90.30, 8483.90.80, 8708.99.80.15, and 8708.99.80.80. Although the HTSUS item numbers are provided for convenience and customs purposes, the written description of the scope of the order and this review is dispositive.

Determination To Revoke Order, in Part

The Department “may revoke, in whole or in part” an antidumping duty order upon completion of a review under section 751 of the Act. While Congress has not specified the procedures that the Department must follow in revoking an order, the Department has developed a procedure for revocation that is described in 19 CFR 351.222. This regulation requires, inter alia, that a company requesting revocation must submit the following: (1) A certification that the company has sold the subject merchandise at not less than normal value (“NV”) in the current review period and that the company will not sell subject merchandise at less than NV during the future; (2) a certification that the company sold commercial quantities of the subject merchandise to the United States in each of the three years forming the basis of the request; and (3) an agreement to reinstatement of the order if the Department concludes that the company, subsequent to the revocation, sold subject merchandise at less than NV. See 19 CFR 351.222(e)(1). Upon receipt of such a request, the Department will consider (1) whether the company in question has sold subject merchandise at not less than NV for a period of at least three consecutive years; (2) the likelihood that the company in question will in the future sell the subject merchandise at less than normal value; and (3) whether the company has agreed in writing to its immediate reinstatement in the order, as long as any exporter or producer is subject to the order, if the Department concludes that the company, subsequent to the revocation, sold the subject merchandise at less than NV. See 19 CFR 351.222(b)(2).

As noted in the Final Results, CMC, Wafangdian, Wanxiang, and ZMC submitted the proper certifications pursuant to 19 CFR 351.222(e)(1), and requested revocation of the antidumping duty order, in part, based on an absence of dumping for at least three consecutive years. Because CMC and ZMC were found to have made sales below normal value in the instant review, these companies do not qualify for revocation. Although Wanxiang sold the subject merchandise at not less than normal value for a period of at least three consecutive years, we determined that Wanxiang does not qualify for revocation of the order because the company did not sell the subject merchandise in the United States in commercial quantities in each of the three years forming the basis of its revocation request.

Wafangdian received a zero margin in each of the last two reviews.² In addition, as noted below, Wafangdian's dumping margin in the instant review is zero as a result of our correction of certain ministerial errors. Accordingly, Wafangdian meets the first criterion of 19 CFR 351.222(b)(2). After consideration of the various comments that were submitted in response to the Preliminary Results,³ we determine that Wafangdian is not likely to sell the subject merchandise in the United States below normal value in the future. See infra, “Analysis of Comments Received.” Finally, as stated above, Wafangdian has agreed in writing to the immediate reinstatement in the order, as long as any exporter or producer is subject to the order, if the Department concludes that the Wafangdian, subsequent to the revocation, sold the subject merchandise at less than NV. Therefore, we find that Wafangdian qualifies for revocation of the order on TRBs under 19 CFR 351.222(b)(2). Accordingly, we are revoking the order with respect to merchandise produced and exported by Wafangdian.

² See Tapered Roller Bearings and Parts Thereof, Finished and Unfinished, From the People's Republic of China; Final Results of 1997-1998 Antidumping Duty Administrative Review and Final Results of New Shipper Review, 64 FR 61837 (November 15, 1999) (“TRBs X”) and Tapered Roller Bearings and Parts Thereof, Finished and Unfinished, From the People's Republic of China; Final Results of 1996-1997 Antidumping Administrative Review and New Shipper Review and Determination Not to Revoke Order in Part, 63 FR 63842 (November 17, 1998) (“TRBs XI”). We note that in TRBs XI, we did not conduct a review of Wafangdian. However, pursuant to 19 CFR 351.222(d), we are not required to conduct a review of the intervening year so long as we conduct a review in the first and third years of the three year consecutive time period. For Wafangdian, we conducted a review in TRBs X and in the instant review.

³ Tapered Roller Bearings and Parts Thereof, Finished and Unfinished, From the People's Republic of China; Preliminary Results of 1998-1999 Administrative Review, Partial Rescission of Review, and Notice of Intent to Revoke Order in Part, 65 FR 41944 (July 7, 2000) (“Preliminary Results”).

Analysis of Comments Received

We have addressed all of the comments regarding the ministerial error allegations in the Memorandum to Susan Kuhbach, “Ministerial Error Allegations for Final Results of Review” (February 12, 2001). As explained in that memorandum, correction of the ministerial errors for Wafangdian resulted in a zero margin for Wafangdian (see Memorandum to File, “Calculations for Amended Final Results for Wafangdian” (February 12, 2001) for the calculation changes made to the final results). Accordingly, as noted above, we have determined to revoke the antidumping duty order with respect to Wafangdian.

In the Final Results, we did not address certain comments regarding revocation raised in the briefs and rebuttal briefs of interested parties, noting that those issues were moot because we found the respondents ineligible for revocation (either based on the fact that they did not make sales above normal value in the instant review or that they did not make sales in commercial quantities during the three-year period being analyzed).⁴ Since, in light of Wafangdian's amended zero margin, these issues are no longer moot, we have addressed parties' comments regarding revocation in a separate memorandum. See Memorandum from Richard W. Moreland, Deputy Assistant Secretary, Import Administration, to Bernard T. Carreau, Deputy Assistant Secretary for Import Administration, “Issues and Decision Memorandum for Amended Final Results” (February 14, 2001). Parties can find a complete discussion of all issues raised in these amended final results and the corresponding recommendations in this public memorandum, which is on file in the Central Records Unit, room B-099 of the main Department building. In addition, a complete version of this memorandum can be accessed directly on the Web at http://ia.ita.doc.gov/frn/summary/list.htm. The paper copy and electronic version of this memorandum are identical in content.

⁴ See Final Results and accompanying Decision Memo at Comments 18-21.

Amended Final Results

Based on our review of comments received regarding ministerial errors, we have made the following change to the Final Results. We have incorporated into our calculation of Wafangdian's weighted average margin the revisions to certain packing material and labor figures, as detailed in exhibits 6 and 7 of Wafangdian's March 14, 2000 submission.

We have also corrected a typographical error in the PRC-wide cash deposit rate in the final results. The correct PRC-wide (country-wide) cash deposit rate is 33.18 percent.

Based on these revisions, we determine that the following dumping margins exist for the period June 1, 1998 through May 31, 1999:

Manufacturer/exporter | Revised margin (percent)
Wafangdian | 0.00
Wanxiang | 0.00
CMC | 0.82
ZMC | 7.37
Liaoning | 0.00
Hailin | 0.00
Weihai | 0.00
Luoyang | 4.37
Premier | 7.36

We are issuing and publishing this determination and notice in accordance with sections section 751(a)(1) and 771(i) of the Act.

Dated: February 16, 2001.
Timothy J. Hauser,
Acting Under Secretary for International Trade.

Appendix_List of Comments and Issues in the Decision Memorandum

Comment 1: The Department Should Grant Revocations

Comment 2: Limiting Revocation to Certain Trading Companies

Comment 3: Limiting Revocation to Particular Models

[FR Doc. 01-4657 Filed 2-23-01; 8:45 am]

BILLING CODE 3510-DS-P